DEPARTMENT OF THE INTERIOR

Fish and Wildlife Service

[FWS-R5-FHC-2011-N135; 53330-1335-0000-J3]

Lake Champlain Sea Lamprey Control Alternatives Workgroup

AGENCY: Fish and Wildlife Service, Interior.

ACTION: Notice of meeting.

SUMMARY: We, the U.S. Fish and Wildlife Service (Service), announce a meeting of the Lake Champlain Sea Lamprey Control Alternatives Workgroup (Workgroup). The Workgroup's purpose is to provide, in an advisory capacity, recommendations and advice on research and implementation of sea lamprey control techniques alternative to lampricide that are technically feasible, cost effective, and environmentally safe. The primary objective of the meeting will be to discuss potential research initiatives.

DATES: The Workgroup will meet on Monday, August 22, 2011, 10 a.m. to 1 p.m. Any member of the public who wants to find out whether the meeting has been postponed may contact Ms. Stefi Flanders at 802-872-0629, extension 10 (telephone), or Stefi_Flanders@fws.gov (e-mail) during regular business hours prior to the meeting date.

ADDRESSES: The meeting will be held at the Essex Town Hall, 2313 Main Street/Lakeshore Road, Essex, NY 12936; 518-963-4287 (telephone).

FOR FURTHER INFORMATION CONTACT: Dave Tilton, Designated Federal Officer, Lake Champlain Sea Lamprey Control Alternatives Workgroup, Lake Champlain Fish and Wildlife Resources Office, U.S. Fish and Wildlife Service, 11 Lincoln Street, Essex Junction, VT 05452 (U.S. mail); 802- 872-0629 (telephone); Dave_Tilton@fws.gov (e-mail). If you use a telecommunications device for the deaf (TDD), please call the Federal Information Relay Service (FIRS) at 800-877-8339.

SUPPLEMENTARY INFORMATION:

Background

On April 10, 2006, the Department of the Interior published a notice of establishment of the Workgroup in the Federal Register (71 FR 18112) under the Federal Advisory Committee Act (5 U.S.C. App.). The Workgroup's specific responsibilities are to provide advice regarding the implementation of sea lamprey control methods alternative to lampricides, to recommend priorities for research on control methods alternative to lampricides, to recommend priorities for research to be conducted by cooperating organizations and demonstration projects to be developed and funded by State and Federal agencies, and to assist Federal and State agencies with the coordination of alternative sea lamprey control research to advance the state of the science in Lake Champlain and the Great Lakes.

Agenda

• Review of any proposals received and discussion of which, if any, to forward to the Fisheries Technical Committee of the Lake Champlain Fish and Wildlife Management Cooperative for funding.

• A presentation by William Ardren, Senior Fish Biologist, Lake Champlain Fish and Wildlife Resources Office, on potential for using Genetically Modified Organism (GMO) technology to control sea lamprey population size in Lake Champlain.

Meeting Location Information

The meeting location is accessible to wheelchair users. If you require additional accommodations, please notify us at least 1 week in advance of the meeting.

Meeting Participation Information

All Committee meetings are open to the public. The public has an opportunity to comment at all Committee meetings.

Authority

We publish this notice under section 10(a)(2) of the Federal Advisory Committee Act (5 U.S.C. App.).

Dated: July 12, 2011.
James G. Geiger,
Acting Assistant Regional Director—Fisheries, U.S. Fish and Wildlife Service, Hadley, Massachusetts.

[FR Doc. 2011-18375 Filed 7-20-11; 8:45 am]

BILLING CODE 4310-55-P